DEPARTMENT OF TRANSPORTATION

Federal Aviation Administration

14 CFR Part 39

[Docket No. FAA-2008-1081; Directorate Identifier 2008-NM-143-AD; Amendment 39-15864; AD 2009-07-05]

RIN 2120-AA64

Airworthiness Directives; ATR Model ATR72 Airplanes

AGENCY: Federal Aviation Administration (FAA), Department of Transportation (DOT).

ACTION: Final rule.

SUMMARY: We are adopting a new airworthiness directive (AD) for the products listed above. This AD results from mandatory continuing airworthiness information (MCAI) originated by an aviation authority of another country to identify and correct an unsafe condition on an aviation product. The MCAI describes the unsafe condition as:

Incomplete accomplishment instructions in SB [service bulletin] ATR72-27-1059 original issue and Revision 1, failed to mention installation of cotter pins to secure the self locking nuts after re-installation of the modified Pitch Uncoupling Mechanism (PUM), when connecting the elevator control linkage rods to the PUM input levers and the PUM output rods to the elevator bellcranks (on both sides).

Because of the non-installation of these four cotter pins, the fail-safe criteria of the design requirements on the pitch control are no longer met. Such a failure could cause the loss of one self locking nut and would result in the loss of pitch control on one side—Captain or First Officer—or the loss of control of one elevator surface. The symmetrical loss of two concerned self-locking nuts could lead to a complete loss of the pitch control.

* * * * *

We are issuing this AD to require actions to correct the unsafe condition on these products.

DATES: This AD becomes effective May 5, 2009.

The Director of the Federal Register approved the incorporation by reference of certain publications listed in this AD as of May 5, 2009.

ADDRESSES: You may examine the AD docket on the Internet at http://www.regulations.gov or in person at the U.S. Department of Transportation, Docket Operations, M-30, West Building Ground Floor, Room W12-140, 1200 New Jersey Avenue, SE., Washington, DC.

FOR FURTHER INFORMATION CONTACT: Tom Rodriguez, Aerospace Engineer, International Branch, ANM-116, Transport Airplane Directorate, FAA, 1601 Lind Avenue, SW., Renton, Washington 98057-3356; telephone (425) 227-1137; fax (425) 227-1149.

SUPPLEMENTARY INFORMATION:

Discussion

We issued a notice of proposed rulemaking (NPRM) to amend 14 CFR part 39 to include an AD that would apply to the specified products. That NPRM was published in the Federal Register on October 9, 2008 (73 FR 59573). That NPRM proposed to correct an unsafe condition for the specified products. The MCAI states:

Incomplete accomplishment instructions in SB [service bulletin] ATR72-27-1059 original issue and Revision 1, failed to mention installation of cotter pins to secure the self locking nuts after re-installation of the modified Pitch Uncoupling Mechanism (PUM), when connecting the elevator control linkage rods to the PUM input levers and the PUM output rods to the elevator bellcranks (on both sides).

Because of the non-installation of these four cotter pins, the fail-safe criteria of the design requirements on the pitch control are no longer met. Such a failure could cause the loss of one self locking nut and would result in the loss of pitch control on one side—Captain or First Officer—or the loss of control of one elevator surface. The symmetrical loss of two concerned self-locking nuts could lead to a complete loss of the pitch control.

For the reasons stated above, this AD requires you to check [for] the presence of the four cotter pins and [perform] their installation if they are found to be missing.

You may obtain further information by examining the MCAI in the AD docket.

Revision to Service Information

Since the NPRM was issued we have received Avions de Transport Regional Service Bulletin ATR72-27-1059, Revision 03, dated October 3, 2008. We referred to Avions de Transport Regional Service Bulletin ATR72-27-1059, Revision 02, dated May 19, 2008, in the NPRM as the appropriate source of service information for accomplishing the required actions. Revision 03 of Avions de Transport Regional Service Bulletin ATR72-27-1059 adds an option for doing additional actions and includes minor editorial changes that do not affect the technical content. We have added Avions de Transport Regional Service Bulletin ATR72-27-1059, Revision 03, dated October 3, 2008, to paragraphs (f)(1), (f)(2), (f)(3), and (h) of this AD as an option for accomplishing the required actions.

Comments

We gave the public the opportunity to participate in developing this AD. We received no comments on the NPRM or on the determination of the cost to the public.

Conclusion

We reviewed the available data and determined that air safety and the public interest require adopting the AD with the change described previously. We determined that this change will not increase the economic burden on any operator or increase the scope of the AD.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have required different actions in this AD from those in the MCAI in order to follow our FAA policies. Any such differences are highlighted in a Note within the AD.

Costs of Compliance

We estimate that this AD will affect 20 products of U.S. registry. We also estimate that it will take about 2 work-hours per product to comply with the basic requirements of this AD. The average labor rate is $80 per work-hour. Based on these figures, we estimate the cost of this AD to the U.S. operators to be $3,200, or $160 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket.

Examining the AD Docket

You may examine the AD docket on the Internet at http://www.regulations.gov; or in person at the Docket Operations office between 9 a.m. and 5 p.m., Monday through Friday, except Federal holidays. The AD docket contains the NPRM, the regulatory evaluation, any comments received, and other information. The street address for the Docket Operations office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2009-07-05 ATR-GIE Avions de Transport Régional (Formerly Aerospatiale): Amendment 39-15864. Docket No. FAA-2008-1081; Directorate Identifier 2008-NM-143-AD.

Effective Date

(a) This airworthiness directive (AD) becomes effective May 5, 2009.

Affected ADs

(b) None.

Applicability

(c) This AD applies to ATR Model ATR72-101, -102, -201, -202, -211, -212, and -212A airplanes, all serial numbers, certificated in any category; as identified in paragraphs (c)(1) and (c)(2) of this AD, as applicable.

(1) This AD applies to airplanes on which Avions de Transport Regional Service Bulletin ATR72-27-1059 was done in service at original issue, dated October 3, 2006; or Revision 01, dated March 14, 2007; except as provided by paragraph (c)(2) of this AD.

(2) This AD does not apply to airplanes on which Avions de Transport Regional Service Bulletin ATR72-27-1059, Revision 02, dated May 19, 2008; or Revision 03, dated October 3, 2008; was done in service, or ATR Modification 05572 was done in production. Modification 05572 is factory-incorporated on ATR72-212A airplanes from manufacturer's serial number (MSN) 730.

Subject

(d) Air Transport Association (ATA) of America Code 27: Flight controls.

Reason

(e) The mandatory continuing airworthiness information (MCAI) states:

Incomplete accomplishment instructions in SB [service bulletin] ATR72-27-1059 original issue and Revision 1, failed to mention installation of cotter pins to secure the self locking nuts after re-installation of the modified Pitch Uncoupling Mechanism (PUM), when connecting the elevator control linkage rods to the PUM input levers and the PUM output rods to the elevator bellcranks (on both sides).

Because of the non-installation of these four cotter pins, the fail-safe criteria of the design requirements on the pitch control are no longer met. Such a failure could cause the loss of one self locking nut and would result in the loss of pitch control on one side—Captain or First Officer—or the loss of control of one elevator surface. The symmetrical loss of two concerned self-locking nuts could lead to a complete loss of the pitch control.

For the reasons stated above, this AD requires you to check [for] the presence of the four cotter pins and [perform] their installation if they are found to be missing.

Actions and Compliance

(f) Unless already done, do the following actions.

(1) Within 10 days after the effective date of this AD: Verify installation of the four cotter pins securing the nuts of the fastener assemblies connecting the elevator control rods to the elevator bellcranks as shown in Figure 1 of the Accomplishment Instructions of Avions de Transport Regional Service Bulletin ATR72-27-1059, Revision 02, dated May 19, 2008; or Revision 03, dated October 3, 2008.

(2) If any cotter pin is found missing, before further flight, install a new cotter pin with part number MS24665-164 by doing all the applicable actions in accordance with the Accomplishment Instructions of Avions de Transport Regional Service Bulletin ATR72-27-1059, Revision 02, dated May 19, 2008; or Revision 03, dated October 3, 2008.

Note 1: For accessing the zone to be inspected, panels 325BL, 325BR, 327HL, 327KL, 327KR, 327JR, 327JL, 333BB, and 334BB may need to be removed. Information pertaining to removal procedures can be found in the Accomplishment Instructions of Avions de Transport Regional Service Bulletin ATR72-27-1059, Revision 02, dated May 19, 2008; or Revision 03, dated October 3, 2008.

(3) Before further flight after accomplishment of paragraph (f)(2) of this AD, perform an operational test of the elevator control as specified in paragraph 3.D., “Tests,” of the Accomplishment Instructions of Avions de Transport Regional Service Bulletin ATR72-27-1059, Revision 02, dated May 19, 2008; or Revision 03, dated October 3, 2008. If any elevator control rod fails the operational test, before further flight, repair using a method approved by the Manager, International Branch, ANM-116, Transport Airplane Directorate, FAA; or the European Aviation Safety Agency (EASA) (or its delegated agent).

FAA AD Differences

Note 2: This AD differs from the MCAI and/or service information as follows: The MCAI does not specify corrective action for failure of the operational test (binding or friction) specified in paragraph (f)(3) of this AD. This AD requires using a method approved by the Manager, International Branch, ANM-116; or the EASA (or its delegated agent) and performing corrective action before further flight.

Other FAA AD Provisions

(g) The following provisions also apply to this AD:

(1) Alternative Methods of Compliance (AMOCs): The Manager, International Branch, ANM-116, Transport Airplane Directorate, FAA, has the authority to approve AMOCs for this AD, if requested using the procedures found in 14 CFR 39.19. Send information to ATTN: Tom Rodriguez, Aerospace Engineer, International Branch, ANM-116, Transport Airplane Directorate, FAA, 1601 Lind Avenue SW., Renton, Washington 98057-3356; telephone (425) 227-1137; fax (425) 227-1149. Before using any approved AMOC on any airplane to which the AMOC applies, notify your appropriate principal inspector (PI) in the FAA Flight Standards District Office (FSDO), or lacking a PI, your local FSDO.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, under the provisions of the Paperwork Reduction Act, the Office of Management and Budget (OMB) has approved the information collection requirements and has assigned OMB Control Number 2120-0056.

Related Information

(h) Refer to MCAI EASA Emergency Airworthiness Directive 2008-0137-E, dated July 23, 2008; and Avions de Transport Regional Service Bulletin ATR72-27-1059, Revision 02, dated May 19, 2008, or Revision 03, dated October 3, 2008; for related information.

Material Incorporated by Reference

(i) You must use Avions de Transport Regional Service Bulletin ATR72-27-1059, Revision 02, dated May 19, 2008; or Avions de Transport Regional Service Bulletin ATR72-27-1059, Revision 03, dated October 3, 2008; to do the actions required by this AD, unless the AD specifies otherwise.

(1) The Director of the Federal Register approved the incorporation by reference of this service information under 5 U.S.C. 552(a) and 1 CFR part 51.

(2) For service information identified in this AD, contact ATR—GIE Avions de Transport Régional, 1, Allée Pierre Nadot, 31712 Blagnac Cedex, France; telephone +33 (0) 5 62 21 62 21; fax +33 (0) 5 62 21 67 18; e-mail continued.airworthiness@atr.fr; Internet http://www.aerochain.com.

(3) You may review copies of the service information at the FAA, Transport Airplane Directorate, 1601 Lind Avenue, SW., Renton, Washington. For information on the availability of this material at the FAA, call 425-227-1221 or 425-227-1152.

(4) You may also review copies of the service information that is incorporated by reference at the National Archives and Records Administration (NARA). For information on the availability of this material at NARA, call 202-741-6030, or go to: http://www.archives.gov/federal_register/code_of_federal_regulations/ibr_locations.html.

Issued in Renton, Washington, on March 17, 2009.
Ali Bahrami,
Manager, Transport Airplane Directorate, Aircraft Certification Service.

[FR Doc. E9-6755 Filed 3-30-09; 8:45 am]

BILLING CODE 4910-13-P